DEPARTMENT OF THE INTERIOR

National Park Service

[NPS-WASO-NAGPRA-NPS0037409; PPWOCRADN0-PCU00RP14.R50000]

Notice of Intent To Repatriate Cultural Items: University of Hawai'i, Hawai'i

AGENCY: National Park Service, Interior.

ACTION: Notice.

SUMMARY: In accordance with the Native American Graves Protection and Repatriation Act (NAGPRA), the University of Hawai'i intends to repatriate certain cultural items that meet the definition of unassociated funerary objects and that have a cultural affiliation with the Indian Tribes or Native Hawaiian organizations in this notice. The cultural items were removed from a burial cave on the Kona coast of Hawai'i island.

DATES: Repatriation of the cultural items in this notice may occur on or after March 25, 2024.

ADDRESSES: Dr. Jonathan Osorio, Dean of Hawai'inuiākea School of Hawaiian Knowledge, University of Hawai'i-Mānoa, 2540 Maile Way, HI 96822, telephone (808) 956-0980, email osorio@hawaii.edu.

SUPPLEMENTARY INFORMATION: This notice is published as part of the National Park Service's administrative responsibilities under NAGPRA. The determinations in this notice are the sole responsibility of the University of Hawai'i. The National Park Service is not responsible for the determinations in this notice. Additional information on the determinations in this notice, including the results of consultation, can be found in the summary or related records held by the University of Hawai'i.

Description

Two burial kapa (bark cloth) were recently discovered within numbered editions of a book entitled Specimens of Hawaiian Kapa Vol I by D.R. Severson within the UH Library system. One edition, No. 20, 2 was found in the UH-Manoa (UHM) Hamilton Library, GN432.S37, while the other edition, No. 28, was found in the UH-Hilo Mo'okini Library, GN432.S37. All respective numbered editions of the book (No.'s 1 to 95) were published by Severson in 1979, with No.'s 1-50 including samples of burial kapa. UH Mānoa acquired a copy (No. 20) in the same year it was published; UH Hilo received a donation of a copy (No. 28) in 2019. Each book contained actual kapa samples that Severson had gathered over the years from various notable collections and individuals; however, the burial kapa was from Severson's personal collection. The only detail regarding their acquisition indicates that they were acquired from burial caves on the Kona Coast of Hawai'i Island. There is no way to determine if they were illicitly acquired or not. As the book contains traditional Hawaiian kapa acquired during the 19th century, its assumed that the burial kapa may have also likely been acquired during the same time period. Its further unknown if these burial kapa were exclusively made for burial or if they were personal belongings of the deceased.

Cultural Affiliation

A detailed assessment of the unassociated funerary objects was made by UH staff in consultation with representatives of Hui Iwi Kuamo'o and the Office of Hawaiian Affairs (OHA). There is a relationship of shared group identity that can reasonably be traced between the unassociated funerary object and present-day Native Hawaiian organizations listed in this notice. The following types of information were used to reasonably trace the relationship: anthropological information, historical information, and expert opinion.

Determinations

Pursuant to NAGPRA and its implementing regulations, and after consultation with the appropriate Indian Tribes and Native Hawaiian organizations, the University of Hawai'i has determined that:

• The two cultural items described above are reasonably believed to have been placed with or near individual human remains at the time of death or later as part of the death rite or ceremony and are believed, by a preponderance of the evidence, to have been removed from a specific burial site of a Native American individual.

• There is a relationship of shared group identity that can be reasonably traced between the cultural items and the Hui Iwi Kuamo'o.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2024. If competing requests for repatriation are received, the University of Hawai'i must determine the most appropriate requestor prior to repatriation. Requests for joint repatriation of the cultural items are considered a single request and not competing requests. The University of Hawai'i is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 9, 2024.
Melanie O'Brien,
Manager, National NAGPRA Program.

[FR Doc. 2024-03576 Filed 2-21-24; 8:45 am]

BILLING CODE 4312-52-P